NUCLEAR REGULATORY COMMISSION

[NRC-2016-0098]

Disposition of Information Related to the Time Period That Safety-Related Structures, Systems, or Components Are Installed

AGENCY: Nuclear Regulatory Commission.

ACTION: Draft regulatory issue summary; withdrawal.

SUMMARY: The U.S. Nuclear Regulatory Commission (NRC) is withdrawing draft regulatory issue summary, “Disposition of Information Related to the Time Period that Safety-Related Structures, Systems or Components are Installed,” which was published for public comment in the Federal Register on May 17, 2016. This document is being withdrawn because public interactions to date between NRC staff and industry have adequately communicated the issues identified by the staff to the industry. The NRC will continue to follow up on these issues via the reactor oversight process.

DATES: The effective date of the withdrawal of the draft regulatory issue summary is September 12, 2018.

ADDRESSES: Please refer to Docket ID NRC-2016-0098 when contacting the NRC about the availability of information regarding this document. You may obtain publicly-available information related to this document using any of the following methods:

• Federal Rulemaking Website: Go to http://www.regulations.gov and search for Docket ID NRC-2016-0098. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: John Thompson, Office of Nuclear Reactor Regulation, telephone: 301-415-1011, email: John.Thompson@nrc.gov, and Eric Thomas, Office of Nuclear Reactor Regulation, telephone: 301-415-6772, email: Eric.Thomas@nrc.gov. Both are staff of the U.S. Nuclear Regulatory Commission, Washington, DC 20555-0001.

SUPPLEMENTARY INFORMATION: On September 14, 2017, NRC's Committee for the Review of Generic Requirements (CRGR) held a public meeting (Meeting No. 447) with industry to discuss this Regulatory Issue Summary (RIS). The meeting minutes are available in ADAMS at ML17276B156. Based on industry concerns expressed during the public meeting, the CRGR recommended that NRC staff cease efforts to further develop and issue the RIS.

Dated at Rockville, Maryland, this 6th day of September 2018.
For the Nuclear Regulatory Commission.
Robert B. Elliott,
Chief, Operating Experience Branch, Division of Inspection and Regional Support, Office of Nuclear Reactor Regulation.

[FR Doc. 2018-19800 Filed 9-11-18; 8:45 am]

BILLING CODE 7590-01-P